DEPARTMENT OF HEALTH AND HUMAN SERVICES

Administration for Children and Families

Office of Family Assistance; Notice to Award Single-Source Expansion Supplement Grant

AGENCY: Office of Family Assistance, ACF, HHS.

ACTION: Notice.

C.F.D.A. Number: 93.086.

Statutory Authority: This action is authorized under the Deficit Reduction Act of 2005 (Pub. L. 109-171) which amends Title IV, Section 403(a)(2)(C) of the Social Security Act (42.U.S.C. 603(a)(2)); Section 1110 of the Social Security Act governing Social Services Research and Demonstration activities; Title IV-B, Subpart 2 of the Social Security Act, Promoting Safe and Stable Families; and Section 452(j) of the Social Security Act.

SUMMARY: Notice is hereby given that a single-source program expansion is being made to Public Strategies, Inc., as the National Healthy Marriage Resource Center (NHMRC), located in Oklahoma City, OK, in the amount of $1,250,000 to conduct a national media campaign on the value of marriage and the skills needed to increase marital stability and health. Public Strategies, Inc. and their collaborative partners were competitively awarded on September 30, 2006 to operate the NHMRC. The goal of the NHMRC is to be the “first stop shop” for marriage education information, an experienced provider of training and technical assistance, and a major catalyst in advancing the healthy marriage field.

Since healthy marriage is a nascent field, it is necessary for the NHMRC to promote healthy marriage on a broad, national level in order to achieve these stated goals. Research has repeatedly shown that a healthy marriage brings about good outcomes for individuals, families, and especially, for children. A national media campaign would significantly raise the awareness of the benefits of healthy marriage and the benefits of marriage education. The campaign would disseminate information that explains how marriage education can enhance a couple's ability to form and sustain a healthy marriage and describe the benefits to children being raised in healthy, married two parent households.

Additionally, by promoting healthy marriage and marriage education on a national level, the NHMRC will encourage a national discussion and further the mission of ACF's Healthy Marriage Initiative to help couples and individuals, who have chosen marriage for themselves, gain greater access to marriage education services, on a voluntary basis, where they can acquire the skills and knowledge necessary to form and sustain a healthy marriage.

After the appropriate reviews, it has been determined that this single-source expansion qualifies for funding.

The period of this funding will extend from September 30, 2007 through September 29, 2011.

FOR FURTHER INFORMATION CONTACT: Michelle Clune, Office of Family Assistance, Administration for Children and Families, 370 L'Enfant Promenade, SW., Washington, DC 20447, Telephone: 202-401-5467, e-mail: michelle.clune@acf.hhs.gov.

Dated: November 6, 2007.
Sidonie Squier,
Director, Office of Family Assistance.

[FR Doc. E7-22101 Filed 11-9-07; 8:45 am]

BILLING CODE 4184-01-P